DEPARTMENT OF JUSTICE

Notice of Lodging of Proposed Consent Decree Under the Clean Water Act

On June 3, 2013, the Department of Justice lodged a proposed consent decree with the United States District Court for the District of Idaho in the lawsuit entitled United States v. Davisco Foods International, Inc., Civil Action No. 11-cv-00458-EJL CV-1291-JTM-JPO.

The United States of America, on behalf of the United States Environmental Protection Agency (EPA), filed a Complaint in this action asserting claims against Defendant Davisco Foods International, Inc. (“Davisco”) for penalties pursuant to Section 309 of the Clean Water Act, 33 U.S.C. 1319. Specifically, the Complaint alleges that, from October of 2006 to August of 2010, Davisco violated its National Pollutant Discharge Elimination System permit issued by EPA under Section 402 of the Clean Water Act, 33 U.S.C. 1342, by discharging amounts and concentrations of phosphorus in excess of its permit limits. The proposed Consent Decree requires Davisco to pay a civil penalty of $304,000 for the violations alleged in the Complaint.

The publication of this notice opens a period for public comment on the Consent Decree. Comments should be addressed to the Assistant Attorney General, Environment and Natural Resources Division, and should refer to United States v. Davisco Foods International, Inc., DOJ Reference No. 90-5-1-1-09859. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $6 (25 cents per page reproduction cost) payable to the United States Treasury.

Robert E. Maher,
Assistant Section Chief, Environmental Enforcement Section, Environment and Natural Resources Division.

[FR Doc. 2013-13541 Filed 6-6-13; 8:45 am]

BILLING CODE 4410-15-P